DEPARTMENT OF TRANSPORTATION

Federal Aviation Administration

14 CFR Part 39

[Docket No. FAA-2015-8138; Directorate Identifier 2014-NM-112-AD]

RIN 2120-AA64

Airworthiness Directives; Fokker Services B.V. Airplanes

AGENCY: Federal Aviation Administration (FAA), DOT.

ACTION: Notice of proposed rulemaking (NPRM).

SUMMARY: We propose to supersede Airworthiness Directive (AD) 2011-17-10 for all Fokker Services B.V. Model F.28 Mark 1000, 2000, 3000, and 4000 airplanes. AD 2011-17-10 currently requires inspecting for a by-pass wire between the housing of each in-tank fuel quantity indication (FQI) cable plug and the cable shield, and corrective actions if necessary. AD 2011-17-10 also requires revising the airplane maintenance program. Since we issued AD 2011-17-10, revised service information has been issued to update the critical design configuration control limitations (CDCCLs) that address potential ignition sources inside fuel tanks. This proposed AD would require revising the airplane maintenance or inspection program by incorporating the instructions in the revised service information. The proposed AD also removes certain airplanes from the applicability. We are proposing this AD to prevent potential ignition sources inside the fuel tanks, which, in combination with flammable fuel vapors, could result in fuel tank explosions and consequent loss of the airplane.

DATES: We must receive comments on this proposed AD by February 18, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Fokker Services B.V., Technical Services Dept., P.O. Box 1357, 2130 EL Hoofddorp, the Netherlands; telephone +31 (0)88-6280-350; fax +31 (0)88-6280-111; email technicalservices@fokker.com; Internet http://www.myfokkerfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-8138; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Comments Invited

We invite you to send any written relevant data, views, or arguments about this proposed AD. Send your comments to an address listed under the ADDRESSES section. Include “Docket No. FAA-2015-8138; Directorate Identifier 2014-NM-112-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On August 3, 2011, we issued AD 2011-17-10, Amendment 39-16774 (76 FR 50111, August 12, 2011), for all Model F.28 Mark 1000, 2000, 3000, and 4000 airplanes. AD 2011-17-10 requires inspecting for a by-pass wire between the housing of each in-tank FQI cable plug and the cable shield and corrective actions (installing a by-pass wire) if necessary. AD 2011-17-10 also requires revising the airplane maintenance program.

Since we issued AD 2011-17-10, Amendment 39-16774 (76 FR 50111, August 12, 2011), revised service information has been issued to update the critical CDCCLs that address potential ignition sources inside fuel tanks.

The European Aviation Safety Agency (EASA), which is the Technical Agent for the Member States of the European Union, has issued EASA Airworthiness Directive 2014-0111, dated May 8, 2014 (referred to after this as the Mandatory Continuing Airworthiness Information, or “the MCAI”), to correct an unsafe condition for the specified products. The MCAI states:

* * * [T]he FAA published Special Federal Aviation Regulation (SFAR) 88, and the Joint Aviation Authorities (JAA) published Interim Policy INT/POL/25/12.

The review conducted by Fokker Services on the F28 design, in response to these regulations, revealed that on certain aeroplanes, an interrupted shield contact may exist or develop between the housing of an in-tank Fuel Quantity Indication (FQI) cable plug and the cable shield of the shielded FQI system cables in the main and collector fuel tanks, which can, under certain conditions, form a spark gap.

This condition, if not detected and corrected, may create an ignition source in the fuel tank vapour space, possibly resulting in a wing fuel tank explosion and consequent loss of the aeroplane.

To address and correct this unsafe condition, Fokker Services published Service Bulletin (SB) SBF28-28-053 which provides instructions, for early production aeroplanes, for a one-time inspection to check for the presence of a by-pass wire between the housing of each in-tank FQI cable plug and the cable shield and, depending on findings, for the installation of a by-pass wire. In addition, SBF28-28-053 provides a Critical Design Configuration Control Limitation (CDCCL) item to make certain that the by-pass wire remains installed on these aeroplanes.

On later production aeroplanes, an improved plug Part Number (P/N) 20P227-2 was introduced with a better shield connection to the housing of the plug. Therefore, SBF28-28-053 (original issue and Revision 1) also provided a CDCCL item to ensure that this type of plug remains installed on those aeroplanes.

EASA issued AD 2010-0217 [which corresponds to FAA AD 2011-17-10, Amendment 39-16774 (76 FR 50111, August 12, 2011)] to require accomplishment of the instructions related to the by-pass wire and implementation of the CDCCL items as specified in Fokker Services SBF28-28-053 Revision 1, as applicable to aeroplane s/n.

Since EASA AD 2010-0217 was issued, it was identified that P/N 20P227-2 and 20P228-1 plugs are also approved and can therefore be installed on the later production aeroplanes. Prompted by this finding, Fokker Services issued SBF28-28-055 to address the implementation of a CDCCL item to make certain that only approved plug types remain installed on the later production aeroplanes, while SBF28-28-053 Revision 2 was issued for early production aeroplanes to address the by-pass wire related actions only.

Consequently, EASA issued AD 2011-0184, retaining the requirements of EASA AD 2010-0217, which was superseded, to require implementation of the related CDCCL items as specified in Fokker Services SBF28-28-053 Revision 2, or SBF28-28-055, as applicable to aeroplane s/n.

More recently, Fokker Services published Revision 3 of SBF28-28-053, to eliminate the use of a heat gun in or near to the fuel tank, and prompted by a change to the definition of the related CDCCL item. Fokker Services also cancelled SBF28-28-055, due to the introduction of a revised definition of the CDCCL item that has been published in Fokker Services SBF28-28-050, Revision 2.

For the reason described above, this [EASA] AD retains the requirements related to SBF28-28-053 of EASA AD 2011-0184, which is superseded, but requires those actions to be accomplished in accordance with the instructions of Fokker Services SBF28-28-053, Revision 3 (R3).

All the actions related to SBF28-28-055, as previously required through paragraphs (5) and (6) of EASA AD 2011-0184, are now addressed by EASA AD 2014-0110 [http://ad.easa.europa.eu/ad/2014-0110] which has been superseded by EASA AD 2015-0030 [http://ad.easa.europa.eu/ad/2015-0030].

* * * * *

The CDCCL requirement in AD 2011-17-10, Amendment 39-16774 (76 FR 50111, August 12, 2011) for Model F.28 Mark 2000, 3000, and 4000 airplanes is now addressed in other related rulemaking. Therefore this proposed AD does not include Model F.28 Mark 2000, 3000, and 4000 airplanes in the applicability.

This AD also removes airplanes having serial numbers 11993 and 19994 from the applicability because those airplanes were scrapped and removed from the type certificate data sheet.

The unsafe condition is the potential of ignition sources inside fuel tanks. Such ignition sources, in combination with flammable fuel vapors, could result in fuel tank explosions and consequent loss of the airplane. You may examine the MCAI in the AD docket on the Internet at http://www.regulations.gov by searching for and locating it in Docket No. FAA-2015-8138.

Related Service Information Under 1 CFR Part 51

Fokker Services B.V. has issued Fokker Service Bulletin SBF28-28-053, Revision 3, dated January 9, 2014. The service information describes procedures for inspecting for a by-pass wire between the housing of each in-tank FQI cable plug and the cable shield, and installing a by-pass wire if necessary. The service information also describes CDCCL item 1.7 for fuel quantity indicating system (FQIS) wiring in wing tanks. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This proposed AD would require implementation of certain maintenance requirements and airworthiness limitations. This proposed AD would also require accomplishing the actions specified in the service information described previously.

This proposed AD would require revisions to certain operator maintenance documents to include new actions (e.g., inspections) and CDCCLs. Compliance with these actions and CDCCLs is required by 14 CFR 91.403(c). For airplanes that have been previously modified, altered, or repaired in the areas addressed by these actions, the operator may not be able to accomplish the actions described in the revisions. In this situation, to comply with 14 CFR 91.403(c), the operator must request approval for an alternative method of compliance according to the procedures specified in paragraph (n)(1) of this AD. The request should include a description of changes to the required actions that will ensure the continued operational safety of the airplane.

Notwithstanding any other maintenance or operational requirements, components that have been identified as airworthy or installed on the affected airplanes before accomplishing the revision of the airplane maintenance or inspection program specified in this AD, do not need to be reworked in accordance with the CDCCLs. However, once the airplane maintenance or inspection program has been revised as required by this AD, future maintenance actions on these components must be done in accordance with the CDCCLs.

Costs of Compliance

We estimate that this proposed AD affects 5 airplanes of U.S. registry. This proposed AD would merely require using the Accomplishment Instructions in the revised service information. The current costs associated with this proposed AD are repeated as follows for the convenience of affected operators:

The actions that are required by AD 2011-17-10, Amendment 39-16774 (76 FR 50111, August 12, 2011), will take about 6 work-hours per product, at an average labor rate of $85 per work-hour. Required parts cost about $0 per product. Based on these figures, the estimated cost of the actions that were required by AD 2011-17-10 is $510 per product.

In addition, we estimate that any necessary follow-on actions required by AD 2011-17-10 will take about 7 work-hours and require parts costing $308, for a cost of $903 per product. We have no way of determining the number of products that may need these actions.

We also estimate that it would take about 1 work-hour per product to revise the maintenance or inspection program in this proposed AD. The average labor rate is $85 per work-hour. Based on these figures, we estimate the cost of this proposed AD on U.S. operators to be $425, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2011-17-10, Amendment 39-16774 (76 FR 50111, August 12, 2011), and adding the following new AD:

Fokker Services B.V.: Docket No. FAA-2015-8138; Directorate Identifier 2014-NM-112-AD.

(a) Comments Due Date

We must receive comments by February 18, 2016.

(b) Affected ADs

This AD replaces AD 2011-17-10, Amendment 39-16774 (76 FR 50111, August 12, 2011).

(c) Applicability

This AD applies to Fokker Services B.V. Model F.28 Mark 1000 airplanes; certificated in any category; serial numbers (S/Ns) 11003 through 11041 inclusive, and S/Ns 11991 and 11992.

(d) Subject

Air Transport Association (ATA) of America Code 28, Fuel.

(e) Reason

This AD was prompted by the issuance of revised service information to update the critical design configuration control limitations (CDCCLs) that address potential ignition sources inside fuel tanks. We are issuing this AD to prevent potential ignition sources inside the fuel tanks, which, in combination with flammable fuel vapors, could result in fuel tank explosions and consequent loss of the airplane.

(f) Compliance

Comply with this AD within the compliance times specified, unless already done.

(g) Retained Inspection and Installation With Revised Service Information

This paragraph restates the actions required by paragraph (g) of AD 2011-17-10, Amendment 39-16774 (76 FR 50111, August 12, 2011), with revised service information. At a scheduled opening of the fuel tanks, but not later than 84 months after September 16, 2011 (the effective date of AD 2011-17-10), do a general visual inspection for the presence of a by-pass wire between the housing of each in-tank fuel quantity indication (FQI) cable plug and the cable shield, in accordance with Part 1 of the Accomplishment Instructions of Fokker Service Bulletin SBF28-28-053, Revision 1, dated September 20, 2010, or Revision 3, dated January 9, 2014. As of the effective date of this AD, only Fokker Service Bulletin SBF28-28-053, Revision 3, dated January 9, 2014, may be used.

(h) Retained Corrective Actions, With Revised Service Information

This paragraph restates the actions required by paragraph (h) of AD 2011-17-10, Amendment 39-16774 (76 FR 50111, August 12, 2011), with revised service information. If during the general visual inspection required by paragraph (g) of this AD, it is found that a by-pass wire is not installed: Before the next flight, install the by-pass wire between the housing of the in-tank FQI cable plug and the cable shield, in accordance with Part 2 of the Accomplishment Instructions of Fokker Service Bulletin SBF28-28-053, Revision 1, dated September 20, 2010, or Revision 3, dated January 9, 2014. As of the effective date of this AD, only Fokker Service Bulletin SBF28-28-053, Revision 3, dated January 9, 2014, may be used.

(i) Retained Maintenance Program Revision To Add Fuel Airworthiness Limitation, With a New Exception

This paragraph restates the actions required by paragraph (i) of AD 2011-17-10, Amendment 39-16774 (76 FR 50111, August 12, 2011), with a new exception. Except as required by paragraph (k) of this AD, concurrently with paragraph (g) of this AD, revise the airplane maintenance program by incorporating CDCCL-1 specified in paragraph 1.L.(1)(c) of Fokker Service Bulletin SBF28-28-053 Revision 1, dated September 20, 2010.

(j) Retained No Alternative Actions, Intervals, and/or CDCCLs Requirement, With a New Exception

This paragraph restates the actions required by paragraph (k) of AD 2011-17-10, Amendment 39-16774 (76 FR 50111, August 12, 2011), with a new exception. Except as required by paragraph (k) of this AD: After accomplishing the revision required by paragraph (i) of this AD, no alternative actions (e.g., inspection, interval) and/or CDCCLs may be used unless the actions, intervals, and/or CDCCLs are approved as an alternative methods of compliance (AMOC) in accordance with the procedures specified in paragraph (n)(1) of this AD.

(k) New Maintenance or Inspection Program Revision To Add Fuel Airworthiness Limitation

Within 30 days after the effective date of this AD: Revise the airplane maintenance or inspection program, as applicable, by incorporating CDCCL item 1.7 as specified in paragraph 1.L.(1)(c) of Fokker Service Bulletin SBF28-28-053, Revision 3, dated January 9, 2014. Accomplishing the revision required by this paragraph terminates the revision required by paragraph (i) of this AD.

(l) No Alternative CDCCLs

After the maintenance or inspection program has been revised as required by paragraph (k) of this AD, no alternative CDCCLs may be used unless the CDCCLs are approved as an AMOC in accordance with the procedures specified in paragraph (n)(1) of this AD.

(m) Credit for Previous Actions

This paragraph provides credit for the applicable actions required by paragraphs (k) of this AD, if those actions were performed before the effective date of this AD using Fokker Service Bulletin SBF28-28-053, Revision 2, dated June 22, 2011.

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Fokker B.V. Service's EASA Design Organization Approval (DOA). If approved by the DOA, the approval must include the DOA-authorized signature.

(o) Related Information

(1) Refer to MCAI EASA Airworthiness Directive 2014-0111, dated May 8, 2014, for related information. This MCAI may be found in the AD docket on the Internet at http://www.regulations.gov by searching for and locating Docket No. FAA-2015-8138.

(2) For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com. You may view this referenced service information at the FAA, Transport Airplane Directorate, 1601 Lind Avenue SW., Renton, WA. For information on the availability of this material at the FAA, call 425-227-1221.

Issued in Renton, Washington, on December 21, 2015.
Michael Kaszycki,
Acting Manager, Transport Airplane Directorate, Aircraft Certification Service.

[FR Doc. 2015-32905 Filed 12-31-15; 8:45 am]

BILLING CODE 4910-13-P